DEPARTMENT OF STATE

[Public Notice 10136]

Determination Pursuant to the Foreign Missions Act

Pursuant to the authority vested in me as the Secretary of State under the Foreign Missions Act, (“the Act”), I hereby determine it is reasonably necessary to achieve one or more of the purposes set forth in section 204(b) of the Act to designate 2790 Green Street, San Francisco, CA 94123, which is owned by the Government of the Russian Federation, as a location and facilities for which entry or access is strictly prohibited by all individuals, including but not limited to representatives or employees of the Russian Government and their dependents, without first obtaining written permission from the Department of State's Office of Foreign Missions. Such prohibitions will take effect as of 11:00 a.m. Pacific Daylight Time on September 2, 2017.

As a result, all persons on the said property are required to depart the premises no later than the date and time stated above.

For purposes of this determination, 2790 Green Street, San Francisco, CA 94123, includes any buildings and/or improvements thereon and the land ancillary thereto.

Access to the property will be subject to terms and conditions set forth by the Office of Foreign Missions.

Rex W. Tillerson,
Secretary of State.

[FR Doc. 2017-20268 Filed 9-21-17; 8:45 am]

BILLING CODE 4710-43-P